OFFICE OF PERSONNEL MANAGEMENT

[Docket ID: OPM-2024-0003]

Privacy Act of 1974; Matching Program

AGENCY: Office of Personnel Management.

ACTION: Notice of a new matching program.

SUMMARY: Pursuant to the Privacy Act of 1974, as amended by the Computer Matching and Privacy Protection Act of 1988 and the Computer Matching Privacy Protections Amendment of 1990 (Privacy Act), and Office of Management and Budget (OMB) guidance on the conduct of matching programs, notice is hereby given of the reestablishment of a matching program between the Office of Personnel Management (OPM) and the Social Security Administration (SSA) (Computer Matching Agreement 1045), the purpose of which is to assist OPM in meeting its legal obligation to offset benefits payable by OPM to annuitants.

DATES: Please submit comments on or before April 10, 2024. The matching program will begin on April 20, 2024, unless comments have been received from interested members of the public that require modification and republication of the notice. The matching program will continue for 18 months from the beginning date and may be extended for an additional 12 months if the respective agency Data Integrity Boards determine that the conditions specified in 5 U.S.C. 552a(o)(D) have been met.

ADDRESSES: You may submit comments via mail to: Stanley McMichael, Resource Management Officer, Retirement Services and Management, Retirement Services, Office of Personnel Management, Room 3313-D, 1900 E. Street NW Washington, DC 20415 or via email at Stanley.mcmichael@opm.gov. You may also submit comments, identified by docket number and title, at the Federal Rulemaking Portal: http://www.regulations.gov by following the instructions for submitting comments. All submissions received must include the agency name and docket number for this document. The general policy for comments and other submissions from members of the public is to make these submissions available for public viewing at http://www.regulations.gov as they are received without change, including any personal identifiers or contact information.

FOR FURTHER INFORMATION CONTACT: Lisa Morgan, Retirement Services, Office of Personnel Management, at (202) 936-0866.

SUPPLEMENTARY INFORMATION: In accordance with the Privacy Act of 1974, as amended by the Computer Matching and Privacy Protection Act of 1988 and the Computer Matching Privacy Protection Amendment of 1990 (Privacy Act), and Office of Management and Budget (OMB) guidance on the conduct of matching programs, including OMB Final Guidance Interpreting the Provision of Public Law 100-53 (published in the Federal Register on June 19, 1989 (54 FR 25818) and OMB Circular A-108, notice is hereby given of a re-established matching program between the Office of Personnel Management (OPM) and the Social Security Administration (SSA). This matching program, Computer Matching Agreement 1045, is being reestablished to enable SSA to disclose wage and self-employment income information to OPM. OPM will match SSA's information with OPM's records on disability retirees under age 60, disabled adult child survivors, certain retirees in receipt of a supplemental benefit under the Federal Employees Retirement System (FERS), and certain annuitants receiving a discontinued service retirement benefit under the Civil Service Retirement System (CSRS). The law limits the amount these retirees, survivors, and annuitants can earn while retaining benefits paid to them. Retirement benefits cease upon re-employment in Federal service for discontinued service annuitants. OPM will use the earnings and self-employment information from SSA to determine continued eligibility for benefits under OPM programs.

PARTICIPATING AGENCIES:

OPM and SSA.

AUTHORITY FOR CONDUCTING THE MATCHING PROGRAM:

Legal authorities for the disclosures under this agreement are 5 U.S.C. 8337(d), 8341(a)(4)(B), 8344(a)(4)(b), and 8468, which establish earnings limitations for certain CSRS and FERS annuitants. The authority to terminate benefits may be found in 5 U.S.C. 8341(e)(3)(B) and 8443(b)(3)(B). The Internal Revenue Code (IRC), at 26 U.S.C. 6103 (l)(11), requires SSA to disclose tax return information to OPM upon request for purposes of the administration of chapters 83 and 84 of title 5 of the United States Code. SSA is authorized to verify the SSNs submitted by OPM under the Privacy Act (5 U.S.C. 552a(b)(3)); the Social Security Act (42 U.S.C. 1306); and SSA's privacy regulations (20 CFR part 401).

PURPOSE(S):

The purpose of this agreement between OPM and SSA is to assist OPM in meeting its legal obligation to offset benefits payable by OPM to annuitants. SSA will disclose wage and self-employment income data available from tax return information governed by the Internal Revenue Code (IRC), (26 U.S.C. 6103(l)(11)) information to OPM. OPM will use the wage and self-employment data obtained from SSA to match against OPM's records of disability retirees under age 60, disabled adult-child survivors, certain retirees in receipt of a supplemental benefit under the Federal Employees' Retirement System (FERS), and certain annuitants receiving a discontinued service retirement benefit under the Civil Service Retirement System (CSRS). Because the law limits the amount these individuals can earn and still retain the benefits paid to them by OPM, OPM will use the SSA information to determine an individual's continued eligibility to receive a benefit from OPM.

CATEGORIES OF INDIVIDUALS:

The individuals whose information is involved in this matching program are those disability retirees under the age of 60, disabled adult-child survivors, certain retirees in receipt of a supplemental benefit under the FERS, and certain annuitants receiving a discontinued service retirement benefit under the CSRS who receive benefits from OPM. SSA will provide information about these individuals by referencing their master file of all individuals with Social Security numbers (SSN) and their file of earnings and self-employment records.

CATEGORIES OF RECORDS:

The categories of records involved in this matching program include the full name, SSN, date of birth, and the tax year for requested earnings for those individuals about who the match is being conducted. In turn, SSA will disclose the following records to OPM: In the case of a “match” response, SSA will disclose wage and self- employment data (employer identification number(s), employer address(es), wage amount(s) from Form W-2, and/or earnings amount(s) from self-employment, annual total wages, and earnings report type) to OPM. SSA will also provide a death indicator if the individual is listed as deceased in SSA records. In the case of a “no-match” response, SSA will disclose the reason for the “no match”, which may include the following: SSN not in file (never issued to anyone); Name and DOB match; gender code does not; Name and gender code match; DOB does not; Name matches, DOB, and gender code do not; Name does not match; DOB and gender code not checked Death indicator (yes/no) if applicable; gender is not required to perform SSN verifications by SSA; it is optional.

SYSTEM(S) OF RECORDS:

OPM's system of records involved in this matching program is OPM/Central-1, Civil Service Retirement and Insurance Published at 73 FR 15013 (March 20, 2008) and 87 FR 5874 (February 2, 2022). SSA's systems of records involved in this matching program are the Master Files of Social Security Number Holders and SSN Applications, referred to as the Enumeration System), 60-0058, last fully published at 87 FR 263 (January 4, 2022), and the Earnings Recording and Self Employment Income System, 60-0059 (referred to as the Master Earnings File (MEF)) last fully published at 71 FR 1819 (January 11, 2006) and amended at 78 FR. 40542 (July 5, 2013), and 83 FR 54969 (November 1, 2018).

Office of Personnel Management.
Kayyonne Marston,
Federal Register Liaison.

[FR Doc. 2024-05097 Filed 3-8-24; 8:45 am]

BILLING CODE 6325-38-P